DEPARTMENT OF ENERGY

Federal Energy Regulatory Commission

[Project No. 13806-012]

5440 Hydor, Inc.; Ampersand Brooklyn Dam Hydro, LLC; Notice of Transfer of Exemption

1. On January 24, 2022, 5440 Hydro, Inc., exemptee for the 600-Kilowatt Brooklyn Dam Hydroelectric Project No. 13806, filed a letter notifying the Commission that the project was transferred from 5440 Hydro, Inc. to Ampersand Brooklyn Dam Hydro, LLC. The exemption from licensing was originally issued on August 14, 2015.¹ The project is located on the Upper Ammonoosuc River, Coos County, New Hampshire. The transfer of an exemption does not require Commission approval.

¹ 5440 Hydro, Inc., 152 FERC ¶ 62,113 (2015).

2. Ampersand Brooklyn Dam Hydro, LLC is now the exemptee of the Brooklyn Dam Hydroelectric Project No. 13806. All correspondence must be forwarded to: Mr. Amit Pinjani, Asset Manager, Ampersand Brooklyn Dam Hydro, LLC, 717 Atlantic Avenue, Suite 1A, Boston, MA 02111, Email: amit@ampersandenergy.com.

Dated: February 25, 2022.
Kimberly D. Bose,
Secretary.

[FR Doc. 2022-04538 Filed 3-3-22; 8:45 am]

BILLING CODE 6717-01-P